DEPARTMENT OF HEALTH AND HUMAN SERVICES

National Institutes of Health

National Institute on Drug Abuse; Amended Notice Meeting

Notice is hereby given of a change in the meeting of the National Advisory Council on Drug Abuse, May 16, 2000, 1 p.m. to May 17, 2000, 11:30 a.m., Neuroscience Center, National Institutes of Health, 6001 Executive Blvd., Bethesda, MD 20892 which was published in the Federal Register on April 25, 2000, Volume 65 FR 24493.

The agenda of the meeting has been changed. On May 16, from 1 p.m. to 4 p.m., the meeting will be closed to the public, and on May 17, from 9 a.m. to 11:30 a.m., the meeting will be open to the public. The meeting is partially closed to the public.

Dated: May 4, 2000.
LaVerne Y. Stringfield,
Director, Office of Federal Advisory Committee Policy.

[FR Doc. 00-11757 Filed 5-10-00; 8:45 am]

BILLING CODE 4140-01-M